DEPARTMENT OF THE TREASURY

Internal Revenue Service

Proposed Collection; Comment Request for Multiple Internal Revenue Service (IRS) Information Collection Requests Related to the Annual Return/Report of Employee Benefit Plan and Payment of Pension Plan Excise Taxes

AGENCY: Internal Revenue Service (IRS), Treasury.

ACTION: Notice and request for comments.

SUMMARY: The Internal Revenue Service (IRS), as part of its continuing effort to reduce paperwork and respondent burden, invites the general public and other Federal agencies to take this opportunity to comment on information collections, as required by the Paperwork Reduction Act of 1995. The IRS is soliciting comments concerning the Annual Return/Report of Employee Benefit Plan.

DATES: Written comments should be received on or before December 5, 2022 to be assured of consideration.

ADDRESSES: Direct all written comments to Andres Garcia, Internal Revenue Service, Room 6526, 1111 Constitution Avenue NW, Washington, DC 20224, or by email to pra.comments@irs.gov. Include “OMB Number 1545-1610-Annual Return/Report of Employee Benefit Plan” in the subject line of the message.

FOR FURTHER INFORMATION CONTACT: Requests for additional information or copies of this collection should be directed to Martha R. Brinson, at (202)317-5753, or at Internal Revenue Service, Room 6526, 1111 Constitution Avenue NW, Washington, DC 20224, or through the internet at Martha.R.Brinson@irs.gov.

SUPPLEMENTARY INFORMATION: Internal Revenue Service (IRS)

Title: Annual Return/Report of Employee Benefit Plan.

OMB Control Number: 1545-1610.

Form Number: 5500 and associated Schedules, and 5558.

Abstract: The Annual Return/Report of Employee Benefit Plan is an annual information return filed by employee benefit plans. The IRS uses this information for a variety of matters, including ascertainment whether a qualified retirement plan appears to conform to requirements under the Internal Revenue Code or whether the plan should be audited for compliance. Form 5500-EZ is an annual return filed by a one participant (owners/partners and their spouses) retirement plan or a foreign plan to satisfy certain annual reporting and filing requirements imposed by the Internal Revenue Code (Code). Form 5558 will be used by the IRS to grant extension request for filing the 5500 series and the 8955-SSA forms. The IRS uses this data to determine if the plan appears to be operating properly as required under the Code or whether the plan should be audited.

Current Actions: IRS is adding Form 5558 to the OMB approval for 1545-1610. Additionally, IRS is making the following revisions to the Forms 5558 to allow for electronic filing with the Department of Labor's (DOL) ERISA Filing Acceptance System (EFAST2).

Currently, Form 5558 is used by a filer to request an extension of time to file Form 5500 series, Form 8955-SSA as well as the Form 5330, Return of Excise Taxes Related to Employee Benefit Plans. Form 5558 does not extend the time to pay the excise taxes. Any tax due for Form 5330 filers must be paid with Form 5558 for the application for an extension of time to file Form 5330.

The DOL EFAST2 system will not take the IRS tax payment. Thus, the IRS will revise Form 5558 to remove the items about the extension of time to file Form 5330. This will allow DOL to electronically collect the form. The Form 5558 will be used to solely request extensions on the Form 5500 series and Form 8955-SSA. The payment information from Form 5558 will be incorporated into Form 8868. The Form 8868 will be revised to allow extensions for Form 5330 and payment of excise tax due. Form 8868 will only allow for the extension to file, and will not extend the payment of the excise tax. The pension plan burden for the Form 8868 revision will be covered under 1545-0575.

Type of Review: Revision of a currently approved collection.

Affected Public: Business or other for profit organizations, individuals and households, not-for profit institutions, and farms.

Total Burden for 1545-1610

Estimated Total Number of Responses: 1,472,304.

Estimated Total Annual Burden Hours: 2,230,416.

Title: Return of Excise Taxes Related to Employee Benefit Plans and Application for Automatic Extension of Time to File an Exempt Organization Return.

OMB Control Number: 1545-0575.

Form Number: 5330 and 8868.

Abstract: Internal Revenue Code sections 4965, 4971, 4972, 4973(a)(3), 4975, 4976, 4977, 4978, 4979, 4979A, 4980 and 4980F impose various excise taxes in connection with employee benefit plans. Form 5330 is used to compute and collect these taxes.

Current Actions: The Form 8868 will be revised to allow extensions for Form 5330—Return of Excise Taxes Related to Employee Benefit Plans. Form 8868 will only allow for the extension to file, and will not extend the payment of the excise tax.

The Form 8868 burden attributed to pension plans will be captured under OMB Control Number 1545-0575.

Type of Review: Revision of a currently approved collection.

Affected Public: Business or other for profit organizations, individuals and households, not-for profit institutions, and farms.

Total Burden for 1545-0575

Estimated Number of Responses: 9,403.

Estimated Total Annual Burden Hours: 540,647.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. Comments will be of public record. Comments are invited on: (a) whether the collection of information is necessary for the proper performance of the functions of the agency, including whether the information has practical utility; (b) the accuracy of the agency's estimate of the burden of the collection of information; (c) ways to enhance the quality, utility, and clarity of the information to be collected; (d) ways to minimize the burden of the collection of information on or other forms of information technology; and (e) estimates of capital or start-up costs and costs of operation, maintenance, and purchase of services to provide information.

Approved: September 28, 2022.
Martha R. Brinson,
Tax Analyst.

[FR Doc. 2022-21584 Filed 10-4-22; 8:45 am]

BILLING CODE 4830-01-P